DEPARTMENT OF ENERGY

Federal Energy Regulatory Commission

[Docket No. EC03-45-000, et al.]

Public Service Company of New Mexico, et al.; Electric Rate and Corporate Filings

January 14, 2003.

The following filings have been made with the Commission. The filings are listed in ascending order within each docket classification.

1. Public Service Company of New Mexico

[Docket No. EC03-45-000]

Take notice that on January 10, 2003, Public Service Company of New Mexico (PNM) submitted for filing an application under section 203 of the Federal Power Act for approval of the reacquisition by PNM of legal title to a portion of the Eastern Interconnection Project, a 216 mile, 345 kV transmission line currently leased by PNM pursuant to a sale and lease-back transaction through a transaction involving PNM Resources, Inc., and the termination of a non-jurisdictional lease associated with that portion of the facilities.

Comment Date: January 31, 2003.

2. The United Illuminating Company

[Docket No. ER03-31-001]

Take notice that on January 9, 2003, The United Illuminating Company (UI) tendered for fling with the Federal Energy Regulatory Commission (Commission) a revised Interconnection Agreement between UI and Cross-Sound Cable Company, L.L.C., executed pursuant to UI's Open Access Transmission Tariff, FERC Electric Tariff, Original Volume No. 4, as amended. This filing is in compliance with the Commission's December 9, 2002 Order Accepting and Suspending Interconnection Agreement, with Modification, and Establishing Hearing and Settlement Judge Procedures (101 FERC § 61,281).

Comment Date: January 30, 2003.

3. New York Independent System Operator, Inc.

[Docket No. ER03-297-001]

Take notice that on January 8, 2003, the New York Independent System Operator, Inc. (NYISO), filed corrections to its December 19, 2002, filing in which the NYISO proposed to amend its Transmission Congestion Contracts credit policy (the December 19 Filing). The filing corrected an error in the transmittal letter of the December 19 Filing.

The NYISO states that it has served a copy of this filing to all parties that have executed Service Agreements under the NYISO's Services Tariff or Open Access Transmission Tariff, the New York State Public Services Commission and to the electric utility regulatory agencies in New Jersey and Pennsylvania.

Comment Date: January 29, 2003.

4. New York State Electric and Gas Corporation

[Docket No. ER03-314-000]

Take notice that on December 23, 2002, New York State Electric & Gas Corporation (NYSEG) tendered for filing with the Federal Energy Regulatory Commission (Commission) a supplement to Rate Schedule FERC No. 72 Facilities Agreement between NYSEG and the Municipal Board of the Village of Bath (the Village).

Comment Date: January 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1386 Filed 1-21dash;03; 8:45 am]

BILLING CODE 6717-01-P